DEPARTMENT OF HOMELAND SECURITY

U.S. Customs and Border Protection

[Docket No. USCBP-2025-0383]

Commercial Customs Operations Advisory Committee

AGENCY: U.S. Customs and Border Protection, Department of Homeland Security.

ACTION: Notice of Open Federal Advisory Committee Meeting.

SUMMARY: The Commercial Customs Operations Advisory Committee (Committee) will hold its quarterly meeting on Wednesday, September 17, 2025, in Washington, DC. The meeting will be open to the public via webinar only.

DATES: The Committee will meet on Wednesday, September 17, 2025, from 1:00 p.m. to 5:00 p.m. Eastern Daylight Time. Please note the meeting may close early if the Committee has completed its business. Comments must be submitted in writing no later than 5:00 p.m. Eastern Daylight Time on September 12, 2025.

ADDRESSES: The meeting will be open to the public via webinar only. The webinar link will be posted by 5:00 p.m. Eastern Daylight Time on September 16, 2025, at https://www.cbp.gov/trade/stakeholder-engagement/coac/coac-public-meetings. For information or to request special assistance for the meeting, contact Mrs. Latoria Martin, Office of Trade Relations, U.S. Customs and Border Protection, at (202) 344-1440, as soon as possible.

Comments may be submitted by one of the following methods:

• Federal eRulemaking Portal: http://www.regulations.gov. Search for Docket Number USCBP-2025-0383. To submit a comment, click the “Comment” button located on the top-left hand side of the docket page.

• Email: tradeevents@cbp.dhs.gov. Include Docket Number USCBP-2025-0383 in the subject line of the message.

Comments must be submitted in writing no later than 5:00 p.m. Eastern Daylight Time on September 12, 2025, and must be identified by Docket No. USCBP-2025-0383. All submissions received must also include the words “Department of Homeland Security.” All comments received will be posted without change to https://www.cbp.gov/trade/stakeholder-engagement/coac/coac-public-meetings and www.regulations.gov. Therefore, please refrain from including any personal information you do not wish to be posted. You may wish to view the Privacy and Security Notice, which is available via a link on www.regulations.gov.

FOR FURTHER INFORMATION CONTACT: Mrs. Latoria Martin, Office of Trade Relations, U.S. Customs and Border Protection, 1300 Pennsylvania Avenue NW, Room 3.5A, Washington, DC 20229, (202) 344-1440; or Ms. Laurie B. Dempsey, Designated Federal Officer, at (202) 344-1440 or tradeevents@cbp.dhs.gov.

SUPPLEMENTARY INFORMATION: Notice of this meeting is given under the authority of the Federal Advisory Committee Act, Title 5 U.S.C., ch. 10. The Committee provides advice to the Secretary of the Department of Homeland Security, the Secretary of the Department of the Treasury, and the Commissioner of U.S. Customs and Border Protection on matters pertaining to the commercial operations of Customs and Border Protection and related functions within the Department of Homeland Security and the Department of the Treasury.

The Committee is committed to ensuring all participants have equal access regardless of disability status. If you require reasonable accommodation due to a disability to fully participate, please contact Mrs. Latoria Martin at (202) 344-1440 as soon as possible.

Please feel free to share this information with other interested members of your organization or association.

To facilitate public participation, we are inviting public comments on the issues the Committee will consider prior to the formulation of recommendations as listed in the AGENDA section below.

There will be a public comment period after each subcommittee update during the meeting on September 17, 2025. During the meeting, comments may be submitted via the trade events mailbox at tradeevents@cbp.dhs.gov or through the Microsoft Teams chat feature. Please note the public comment period for speakers may end before the time indicated on the schedule that is posted on the Customs and Border Protection web page: http://www.cbp.gov/trade/stakeholder-engagement/coac.

Agenda

The Committee will hear from the current subcommittees on the topics listed below:

1. The Intelligent Enforcement Subcommittee will provide updates on the work completed in its working groups. The Intellectual Property Rights Process Modernization Working Group will wind down this quarter and plans to have final comments and/or proposed recommendations. The Forced Labor Working Group will wind down this quarter and hopes to have final comments and/or proposed recommendations. The Antidumping and Countervailing Duty Working Group will wind down this quarter and plans to have final comments and/or proposed recommendations for a path forward.

2. The Next Generation Facilitation Subcommittee will provide updates on three of its working groups. The Automated Commercial Environment Modernization (formerly ACE 2.0) Working Group will wind down this quarter and plans to have final comments and/or proposed recommendations on its discussions about trade priorities. The Broker Modernization Working Group remains focused on the enhancement of the candidate experience and improving the administration of the Customs Broker License Exam. The Broker Modernization Working Group will wind down this quarter and plans to have final comments and/or proposed recommendations for the Committee's consideration. The Modernized Entry Processes Working Group is scheduled to meet this quarter in July and August with the goal of winding down this quarter and plans to finalize its discussions on National Customs Automation Programs and Broker Cybersecurity. Proposed recommendations are anticipated from the Modernized Entry Processes Working Group. The Customs Interagency Industry Working Group did not meet this quarter and does not plan to submit any proposed recommendations.

3. The Secure Trade Lanes Subcommittee will provide updates on six of its seven active working groups. The Export Modernization Working Group has met three times this quarter. It continues to focus on defining Progressive Filing, discussions regarding the proposed Rail Electronic Export Manifest notice of proposed rulemaking, and upcoming notices of proposed rulemaking for ocean and other transportation modes and the accompanying operational guides. It will wind down this quarter and plans to have final comments and/or proposed recommendations that formalize and reflect its work. The Drawback Task Force has met three times this quarter and plans to complete all of the work that was established on its task list when the group was established in 2024, ahead of the public meeting in September. Specifically, the group has finalized its discussions regarding error validation code streamlining. Additionally, the group plans to discuss drawback for recycled items, provide additional ideas for Document Image System codes for ease of use by drawback specialists, develop recommendations for a new process for amending and perfecting drawback claims, and expand on previous conversations for the treatment of sets for unused merchandise substitution drawback per 19 U.S.C. 1313(j)(2). The Drawback Task Force will wind down this quarter and plans to have final comments and/or proposed recommendations for the September public meeting. The De Minimis Working Group discussion this quarter has centered around U.S. Customs and Border Protection's enforcement of the $800 limit per person per day and on the new U.S. Food and Drug Administration import requirements that were released this quarter with immediate effect on the trade. The De Minimis Working Group will wind down this quarter and plans to have final comments and/or proposed recommendations. The Centers Working Group will wind down this quarter. The Foreign Trade Zone/Warehouse Working Group has completed its initial review of the foreign trade zone regulations (19 CFR part 146). The working group will wind down this quarter and plans to have final comments and/or proposed recommendations for Foreign Trade Zones and bonded warehouses for submission at the Committee's public meeting in September. The Cross-Border Recognition Working Group has not met this quarter and remains on hiatus. The Trade Partnership and Engagement Working Group is winding down this quarter and plans to have final comments and/or proposed recommendations for an updated handbook for the Customs Trade Partnership Against Terrorism Trade Compliance Program and proposed recommendations for the September meeting with respect to efficiencies and eliminating redundancies in the Customs Trade Partnership Against Terrorism program. The Pipeline Working Group has been discussing deployment of a National Customs Automation Program test of data acquisition using Global Interoperability Standards for tracking pipeline-borne crude oil and will wind down this quarter.

Meeting materials will be available on September 8, 2025, at: http://www.cbp.gov/trade/stakeholder-engagement/coac/coac-public-meetings.

Laurie B. Dempsey,
Acting Executive Director, Office of Trade Relations.

[FR Doc. 2025-16175 Filed 8-22-25; 8:45 am]

BILLING CODE 9111-14-P